DEPARTMENT OF COMMERCE

Bureau of Industry and Security

15 CFR Part 744

[Docket No. 220818-0172]

RIN 0694-AI79

Additions of Entities to the Entity List

AGENCY: Bureau of Industry and Security, Department of Commerce.

ACTION: Final rule.

SUMMARY: The Department of Commerce is amending the Export Administration Regulations (EAR) by adding seven entities under seven entries to the Entity List. These entities have been determined by the U.S. Government to be acting contrary to the national security or foreign policy interests of the United States and will be listed on the Entity List under the destination of the People's Republic of China (China). This final rule also corrects typographical errors in two existing entries on the Entity List.

DATES: This rule is effective August 24, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

Additions to the Entity List

The Entity List (supplement No. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limits the availability of, most license exceptions for exports, reexports, and transfers (in-country) to listed entities. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote. This rule implements the ERC's decisions to add seven entities to the Entity List on the basis of § 744.11(b). Paragraphs (b)(1) through (5) of § 744.11 include an illustrative list of activities that could be contrary to the national security or foreign policy interests of the United States.

The ERC determined to add China Aerospace Science and Technology Corporation (CASC) 9th Academy 771 Research Institute, China Aerospace Science and Technology Corporation (CASC) 9th Academy 772 Research Institute, China Academy of Space Technology 502 Research Institute, China Academy of Space Technology 513 Research Institute, China Electronics Technology Group Corporation 43 Research Institute, China Electronics Technology Group Corporation 58 Research Institute, and Zhuhai Orbita Control Systems to the Entity List for acquiring and attempting to acquire U.S.-origin items in support of China's military modernization efforts. This activity is contrary to national security and foreign policy interests under § 744.11(b) of the EAR. For these seven entities added to the Entity List, BIS imposes a license requirement for all items subject to the EAR. For these seven entities, BIS will review license applications under a presumption of denial.

For the reasons described above, this final rule adds the following seven entities under seven entries to the Entity List and includes, where appropriate, aliases:

China

• China Aerospace Science and Technology Corporation (CASC) 9th Academy 771 Research Institute,

• China Aerospace Science and Technology Corporation (CASC) 9th Academy 772 Research Institute,

• China Academy of Space Technology 502 Research Institute,

• China Academy of Space Technology 513 Research Institute,

• China Electronics Technology Group Corporation 43 Research Institute,

• China Electronics Technology Group Corporation 58 Research Institute, and

• Zhuhai Orbita Control Systems

Corrections to the Entity List

This final rule also makes typographical corrections to two existing entities on the Entity List. Beijing Tianhua and Tenfine Ltd. are revised by correcting “Haidain” to “Haidian” in their addresses.

Savings Clause

For the changes being made in this final rule, shipments of items removed from eligibility for a License Exception or export, reexport, or transfer (in-country) without a license (NLR) as a result of this regulatory action that were en route aboard a carrier to a port of export, reexport, or transfer (in-country), on August 24, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended under CHINA, PEOPLE'S REPUBLIC OF:

a. By revising the entry for “Beijing Tianhua”;

a. By adding, in alphabetical order, entries for “China Aerospace Science and Technology Corporation (CASC) 9th Academy 771 Research Institute”, “China Aerospace Science and Technology Corporation (CASC) 9th Academy 772 Research Institute”, “China Academy of Space Technology 502 Research Institute, China Academy of Space Technology 513 Research Institute”, “China Electronics Technology Group Corporation 43 Research Institute”, “China Electronics Technology Group Corporation 58 Research Institute”;

c. By revising the entry for “Tenfine Ltd.”, and

d. By adding, in alphabetical order, an entry for “Zhuhai Orbita Control Systems”.

The additions and revisions read as follows:

Supplement No. 4 to Part 744—Entity List

* * * * *

Country | Entity | License requirement | License review policy | Federal Register citation
* * * * * * *
CHINA, PEOPLE'S REPUBLIC OF | Beijing Tianhua, a.k.a., the following seventeen aliases: —Beijing Tianhua International Co., Ltd.; | For all items subject to the EAR. (See § 744.11 of the EAR). | Presumption of denial | 78 FR 75463 12/12/13. 87 FR [INSERT FR PAGE NUMBER] 8/24/22.
| —Beijing BUAA Tianhua Technology Company;
| —Beijing BUAA Tianhua Technology Co., Ltd.;
| —Beijing Aerospace Technology Limited Liability Company;
| —Beihang Tenfine Industry Group;
| —Beijing Beihang Assets Management Co., Ltd.;
| —Beijing Beihang Science & Technology Co., Ltd.;
| —Beijing Aerospace Technology LLC;
| —Beijing North China Aerospace Science & Technology Ltd., Co.;
| —Beijing North Space Technology Co., Ltd.;
| —Beijing the Tianhua Easytouch International Trade Co., Ltd.;
| —North and Astronautics, Beijing China Times Technology Co., Ltd.;
| —Beijing Beihang Haier Software Co., Ltd.;
| —Red Technology;
| —TRW Navigation Communication Technology Co., Ltd.;
| —Beijing North Aerospace Co-Technology Co., Ltd.; and
| —Beijing Full Three Dimensional Power Engineering Co., Ltd.
| —37 Xue Yuan Rd., Beijing, China; and
| —Room 301, 3f Shining Tower, 35 Xue Yuan Lu, Haidian District, Beijing, China; and
| —Room 311A, 3f Shining Tower, 35 Xue Yuan Lu, Haidian, Beijing, China; and
| —Room 411A, 4f Shining Tower, 35 Xue Yuan Lu, Haidian, Beijing, China; and
| —Room 401, 4f Shining Tower, 35 Xue Yuan Lu, Haidian District, Beijing, China; and
| —Room 402a, 4f Shining Tower, 35 Xue Yuan Lu, Haidian, Beijing, China; and
| —Xueyan Road, Haidian District, Beijing City, 35th Ning Building, Room 402a.
| * * * * * *
| China Aerospace Science and Technology Corporation (CASC) 9th Academy 771 Research Institute, a.k.a., the following five aliases: | For all items subject to the EAR. (See § 744.11 of the EAR). | Presumption of Denial | 87 FR [INSERT FR PAGE NUMBER] 8/24/22.
| —Xi'an Institute of Microelectronics;
| —Xi'an Microelectronics Technology Institute;
| —XMTI;
| —771 Research Institute; and
| —Lishan Microelectronics Company.
| —No. 198 Taibai South Road, Shaanxi, China; and No. 198 Taibai Nan Road, Xian, China.
| China Aerospace Science and Technology Corporation (CASC) 9th Academy 772 Research Institute a.k.a., the following four aliases: | For all items subject to the EAR. (See § 744.11 of the EAR). | Presumption of Denial | 87 FR [INSERT FR PAGE NUMBER] 8/24/22.
| —772 Research Institute;
| —Beijing Institute of Microelectronics Technology;
| —Beijing Microelectronics Technology Institute; and
| —BMTI.
| —No. 2, Siyingmen North Road, Donggaodi, Fengtai District, Beijing, China.
| China Academy of Space Technology 502 Research Institute, a.k.a., the following three aliases: | For all items subject to the EAR. (See § 744.11 of the EAR). | Presumption of Denial | 87 FR [INSERT FR PAGE NUMBER] 8/24/22.
| —502 Research Institute;
| —Beijing Institute of Control Engineering; and
| —BICE.
| —No. 31 Zhongguancun Nan Street, Beijing, China; and No. 16 South 3rd Street, Zhonggu, Haidian District, Beijing, China.
| China Academy of Space Technology 513 Research Institute, a.k.a., the following three aliases: | For all items subject to the EAR. (See § 744.11 of the EAR). | Presumption of Denial | 87 FR [INSERT FR PAGE NUMBER] 8/24/22.
| —513 Research Institute;
| —Shandong Institute of Space Electronic Technology; and
| —SISET.
| —No. 513 Spaceflight Road, High-Tech Zone, Shandong, China.
| * * * * * *
| China Electronics Technology Group Corporation 43 Research Institute, a.k.a., the following three aliases: | For all items subject to the EAR. (See § 744.11 of the EAR). | Presumption of Denial | 87 FR [INSERT FR PAGE NUMBER] 8/24/22.
| —East China Research Institute of Microelectronics;
| —ECRIM; and
| —CETC 43.
| —No. 19, Hehuan Road, High-tech Zone, Hefei City, China.
| China Electronics Technology Group Corporation 58 Research Institute, a.k.a., the following two aliases: | For all items subject to the EAR. (See § 744.11 of the EAR). | Presumption of Denial | 87 FR [INSERT FR PAGE NUMBER] 8/24/22.
| —Wuxi Microelectronics Research Center; and
| —CETC 58.
| —No. 777 Jianzhu West Road, Wuxi City, China, and No. 5 Huihe Road, Wuxi City, China.
| * * * * * *
| Tenfine Ltd., a.k.a., the following two aliases: —Beijing Beihang Assets Management Co. Ltd.; and | For all items subject to the EAR. (See § 744.11 of the EAR). | Presumption of denial | 78 FR 75463 12/12/13. 87 FR [INSERT FR PAGE NUMBER] 8/24/22.
| —Tenfine Limited Company.
| —No 37 Xue Yuan Lu, Haidian, Beijing, China; and
| —37 Xue Yuan Road, Beijing, China; and
| —Room 401, 4f Shining Tower, 35 Xue Yuan Lu, Haidian District, Beijing, China; and
| —Room 402b, 4F Shining Tower, 35 Xue Yuan Lu, Haidian, Beijing, China; and
| —Xueyan Road, Haidian District, Beijing City, 35th Ning Building, Room 402a.
| * * * * * *
| Zhuhai Orbita Control Systems, a.k.a., the following three aliases: —Zhuhai Orbita Control Engineering; | For all items subject to the EAR. (See § 744.11 of the EAR). | Presumption of Denial | 87 FR [INSERT FR PAGE NUMBER] 8/24/22.
| —Zhuhai Orbita Aerospace Science and Technology; and
| —Orbita.
| —Orbita Tech Park, No.1, Baisha Road, Tangjia Dongan, Zhuhai, China.
| * * * * * *
* * * * * * *

* * * * *

Matthew S. Borman,
Deputy Assistant Secretary for Export Administration.

[FR Doc. 2022-18268 Filed 8-23-22; 8:45 am]

BILLING CODE 3510-33-P